POSTAL SERVICE

39 CFR Parts 111 and 211

Cremated Remains Packaging Requirements

AGENCY: Postal Service™.

ACTION: Final rule.

SUMMARY: The Postal Service is amending Publication 52, Hazardous, Restricted, and Perishable Mail (Pub 52) by requiring mailers to solely use the Cremated Remains shipping supplies provided by the Postal Service when mailing human or animal cremated remains, also referred to as cremains or ashes, domestically or internationally.

DATES: Effective March 1, 2025.

FOR FURTHER INFORMATION CONTACT: Dale Kennedy, (202) 268-6592, or Jennifer Cox, (202) 268-2108.

SUPPLEMENTARY INFORMATION: The Postal Service hereby amends Publication 52, Hazardous, Restricted, and Perishable Mail (Pub 52 or Publication 52), with the provisions set forth herein. While not codified in title 39 of the Code of Federal Regulations (CFR), Publication 52 is a regulation of the Postal Service, and changes to it may be published in the Federal Register. 39 CFR 211.2(a)(2). Moreover, Publication 52 is incorporated by reference into Mailing Standards of the United States Postal Service, Domestic Mail Manual (DMM) section 601.8.1, which is incorporated by reference, in turn, into the Code of Federal Regulations. Publication 52 is publicly available, in a read-only format, via the Postal Explorer® website at https://pe.usps.com. In addition, links to Postal Explorer are provided on the landing page of USPS.com, the Postal Service's primary customer-facing website, and on Postal Pro, an online informational source available to postal customers.

Summary of New Measures

The Postal Service will require mailers shipping human or animal cremated remains in any state (e.g., ashes, keepsakes and jewelry) to be shipped in the Cremated Remains packaging supplied by the Postal Service. Previously, mailers were permitted to use any box if it was marked with Label 139—Cremated Remains.

The Postal Service understands the mailing of cremated remains is a sensitive matter and believes this will improve visibility and enhance handling methods throughout processing and transportation.

Response to Comments

In response to the proposed rule (89 FR 93238, November 26, 2024), the Postal Service received one favorable formal response to the changes to Pub 52.

Kevin Rayburn,
Attorney, Ethics & Legal Compliance.

The Postal Service adopts the following changes to Publication 52, Hazardous, Restricted, and Perishable Mail, incorporated by reference into Mailing Standards of the United States Postal Service, Domestic Mail Manual (DMM), section 601.8.1, which is further incorporated by reference in the Code of Federal Regulations. 39 CFR 111.1, 111.3. Publication 52 is also a regulation of the Postal Service, changes to which may be published in the Federal Register. 39 CFR 211.2(a). Accordingly, for the reasons stated in the preamble, the Postal Service amends Publication 52 as follows:

Publication 52, Hazardous, Restricted and Perishable Mail

* * * * *

4 Restricted Matter

* * * * *

45 Other Restricted Materials

* * * * *

451.22 Cremated Remains

[Revise section as follows:]

Human or animal cremated remains in any state (e.g., ashes, keepsakes and jewelry) are permitted for mailing as follows:

a. Domestic:

1. Must be sent via Priority Mail Express Service.

2. Must be packaged according to 451.3b and Packaging Instruction 10C.

3. Mailers must use one of the special Priority Mail Express cremated remains branded boxes (BOX-CRE) available on usps.com.

4. Extra Services permitted with mailpieces containing cremated remains are additional insurance and return receipt only.

5. Shipping labels may be printed and affixed through Click-N-Ship or other USPS-approved methods or at a Post Office location. Mailer generated labels must bear an Intelligent Mail package barcode (IMpb) with the proper cremated remains Service Type Code (STC) and include the proper Extra Services Code (ESC) in the Shipping Services File (see Publication 199 on PostalPro at postalpro.usps.com).

b. International:

1. When permitted by the destination country, cremated remains must be sent via Priority Mail Express International service. Mailers must verify that the destination country accepts Priority Mail Express International and cremated remains before mailing.

2. Mailers must use one of the special Priority Mail Express cremated remains branded boxes (BOX-CRE) available on usps.com.

3. Must be packaged as required in 451.3b and Packaging Instruction 10C.

4. The contents “cremated remains” must be indicated on the applicable customs declaration form.

* * * * *

451.3 Packaging and Marking

[Revise item b. and create new item c. as follows:]

b. Powders. Dry materials that could cause soiling, damage, discomfort or destruction, upon escape (leakage) must be packaged in sift proof or other sealed primary containers and placed into sealed, durable, outer containers.

c. Cremated Remains. Must be shipped in USPS-branded BOX-CRE and prepared according to Packaging Instruction 10C in Appendix C.

Appendix C

* * * * *

USPS Packaging Instructions 10C

[Revise opening paragraph as follows:]

Cremated Remains

Human or animal cremated remains in any state (e.g., ashes, keepsakes and jewelry) are permitted for mailing with restrictions, provided they are appropriately prepared according to section 451 and the following instructions.

* * * * *

[Revise the following sections as follows:]

Mailability

International Mail: Permitted via Priority Mail Express International Service when permitted by the destination country (see the Individual Country Listings in the IMM).

Domestic Mail: Permitted via Priority Mail Express service only.

Required Packaging

Primary Container

International: A funeral urn is required as the inner container. It must be sealed and sift proof.

Domestic: The inner container must be strong and durable and be constructed in such a manner as to protect and securely contain the contents inside and it must be properly sealed so that it is sift proof.

Note: A sift proof container is any vessel that does not allow loose powder to leak or sift out during transit.

* * * * *

[Revise the following sections as follows:]

Outer Container

All cremated remains mailings must utilize the USPS-produced Cremated Remains (BOX-CRE) outer packaging, found on usps.com.

Insert your inner container into a sealed plastic bag, then place in the shipping box and add padding to the bottom, sides, and top to ensure there is no movement of contents during transit.

Note: It is recommended that you attach a slip of paper to the sealed plastic bag with the complete return and delivery addresses and the words “Cremated Remains” in the event the mailing label becomes detached from the outer container after acceptance.

Marking

Domestic: A complete return address and delivery address must be used.

International: A complete return address and delivery address must be used. The mailer must indicate the contents (Cremated Remains) on the applicable customs declaration form.

Documentation

International: If available, and when required by the destination post, the cremation certificate and any other certificates or permits should be attached to the outer packaging or made easily accessible. The sender is responsible for obtaining all the necessary documentation and permissions required by the national laws in the country of origin and the country of destination prior to dispatching these items. See the Individual Country Listings in the IMM.

* * * * *

[FR Doc. 2025-02544 Filed 2-18-25; 8:45 am]

BILLING CODE 7710-12-P